ENVIRONMENTAL PROTECTION AGENCY

40 CFR Parts 271 and 272

[EPA-R08-RCRA-2016-0174; FRL-9947-05-Region 8]

Wyoming: Proposed Authorization of State Hazardous Waste Management Program Revisions and Incorporation by Reference

AGENCY: Environmental Protection Agency (EPA).

ACTION: Proposed rule.

SUMMARY: The Environmental Protection Agency (EPA) is proposing to grant authorization to the State of Wyoming for the changes to its hazardous waste program under the Solid Waste Disposal Act, as amended, commonly referred to as the Resource Conservation and Recovery Act (RCRA). EPA has determined that these changes satisfy all requirements needed to qualify for final authorization, and is authorizing the state's changes through a direct final action. In addition, the EPA is proposing to codify in the regulations entitled “Approved State Hazardous Waste Management Programs,” Wyoming's authorized hazardous waste program. The EPA will incorporate by reference into the Code of Federal Regulations (CFR) those provisions of the State regulations that are authorized and that the EPA will enforce under RCRA.

DATES: Send written comments by July 25, 2016.

ADDRESSES: Submit your comments, identified by Docket ID No. EPA-R08-RCRA-2016-0174 by mail to Christina Cosentini, Resource Conservation and Recovery Program, EPA Region 8, 1595 Wynkoop Street, Mail Code 8P-R, Denver, Colorado 80202. You may also submit comments electronically or through hand delivery/courier by following the detailed instructions in the ADDRESSES section of the direct final rule located in the Rules section of this Federal Register.

FOR FURTHER INFORMATION CONTACT: Christina Cosentini at (303) 312-6231, cosentini.christina@epa.gov.

SUPPLEMENTARY INFORMATION: In the “Rules and Regulations” section of this Federal Register, the EPA is authorizing changes to the Wyoming program, in addition to codifying and incorporating by reference the State's hazardous waste program as a direct final rule. The EPA did not make a proposal prior to the direct final rule because we believe these actions are not controversial and do not expect comments that oppose them. We have explained the reasons for this authorization and incorporation by reference in the preamble to the direct final rule.

Unless EPA receives written comments that oppose the authorization and incorporation by reference during the comment period, the direct final rule will become effective on the date it establishes, and we will not take further action on this proposal. If we get comments that oppose the authorization, we will withdraw the direct final rule and it will not take immediate effect. We will then respond to public comments in a later final rule based on this proposal. You may not have another opportunity for comment. If you want to comment on this action, you must do so at this time.

Dated: May 11, 2016.
Shaun L. McGrath,
Regional Administrator, Region 8.

[FR Doc. 2016-14283 Filed 6-23-16; 8:45 am]

BILLING CODE 6560-50-P